DEPARTMENT OF THE INTERIOR

National Park Service

[NPS-WASO-NAGPRA-23373; PPWOCRADN0-PCU00RP14.R50000]

Notice of Inventory Completion: San Bernardino County Sheriff-Coroner, San Bernardino, CA

AGENCY: National Park Service, Interior.

ACTION: Notice.

SUMMARY: The San Bernardino County Sheriff-Coroner has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the San Bernardino County Sheriff-Coroner. If no additional requestors come forward, the human remains may be reinterred.

DATES: Representatives of any Indian Tribe or Native Hawaiian organization not identified in this notice that wish to request transfer of control of these human remains should submit a written request with information in support of the request to the San Bernardino County Sheriff-Coroner at the address in this notice by July 14, 2017.

ADDRESSES: Robert Hunter, Diplomat—ABMDI, Unidentified Persons Coordinator, San Bernardino County Sheriff-Coroner, 175 South Lena Road, San Bernardino, CA 92418, telephone (909) 387-2978.

SUPPLEMENTARY INFORMATION: Notice is here given in accordance with the Native American Graves Protection and Repatriation Act (NAGPRA), 25 U.S.C. 3003, of the completion of an inventory of human remains under the control of the San Bernardino County Sheriff-Coroner, San Bernardino, CA. The human remains were removed from an unknown location.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the San Bernardino County Sheriff-Coroner professional staff in consultation with the California Native American Heritage Commission.

History and Description of the Remains

At an unknown date, human remains representing, at minimum, two individuals were removed from an unknown location. On October 4, 1996, the San Bernardino County Sherriff-Coroner's office took custody of two skulls and placed them into curation at the Coroner facility. The human remains were determined to be Native American based on context and an anthropological examination. Between October 1996 and October 2016, numerous attempts were made to determine a most likely decedent with local area Indian Tribes and the California Native American Heritage Commission. No Indian Tribes in California were willing to accept the human remains without clear provenience. No known individuals were identified. No funerary objects were present.

Pursuant to 43 CFR 10.16, the Secretary of the Interior may recommend that culturally unidentifiable human remains with no “tribal land” or “aboriginal land” provenience be reinterred under State or other law. In January 2017, the San Bernardino County Sheriff-Coroner requested that the Secretary, through the Native American Graves Protection and Repatriation Review Committee, recommend the proposed re-interment of the culturally unidentifiable Native American human remains in this notice, according to State or other law. The Review Committee, acting pursuant to its responsibility under 25 U.S.C. 3006(c)(5), considered the request at its March 2017 meeting and recommended to the Secretary that the proposed re-interment proceed. An April 2017 letter on behalf of the Secretary of the Interior from the National Park Service Associate Director for Cultural Resources, Partnerships, and Science transmitted the Secretary's independent review and concurrence with the Review Committee that:

• No Indian Tribes objected to the proposed re-interment, and

• the San Bernardino County Sheriff-Coroner may proceed with the proposed re-interment of the culturally unidentifiable human remains.

Re-interment is contingent on the publication of a Notice of Inventory Completion in the Federal Register. This notice fulfills that requirement.

Determinations Made by the San Bernardino County Sheriff-Coroner

Officials of the San Bernardino County Sheriff-Coroner have determined that:

• Pursuant to 25 U.S.C. 3001(9), the human remains described in this notice are Native American based on context and other artifacts found with the human remains.

• Pursuant to 25 U.S.C. 3001(9), the human remains described in this notice represent the physical remains of two individuals of Native American ancestry.

• Pursuant to 25 U.S.C. 3001(2), a relationship of shared group identity cannot be reasonably traced between the Native American human remains and any present-day Indian Tribe.

• Pursuant to 43 CFR 10.11(c)(1), a “tribal land” or “aboriginal land” provenience cannot be ascertained.

• Pursuant to 43 CFR 10.10(g)(2)(ii) and 43 CFR 10.16, the human remains may be reinterred according to the law of San Bernardino County, CA.

Additional Requestors and Disposition

Representatives of any Indian Tribe or Native Hawaiian organization not identified in this notice that wish to request transfer of control of these human remains should submit a written request with information in support of the request to Robert Hunter, Diplomat—ABMDI, Unidentified Persons Coordinator, San Bernardino County Sheriff-Coroner, 175 South Lena Road, San Bernardino, CA 92418, telephone (909) 387-2978, by July 14, 2017. After that date, if no additional requestors have come forward, the human remains may be reinterred.

The San Bernardino County Sheriff-Coroner is responsible for notifying the California Native American Heritage Commission that this notice has been published.

Dated: May 8, 2017.
Melanie O'Brien,
Manager, National NAGPRA Program.

[FR Doc. 2017-12293 Filed 6-13-17; 8:45 am]

BILLING CODE 4312-52-P